DEPARTMENT OF COMMERCE

National Oceanic and Atmospheric Administration

Hydrographic Services Review Panel Meeting

AGENCY: National Ocean Service, National Oceanic and Atmospheric Administration (NOAA), Department of Commerce.

ACTION: Notice of public open meeting (via conference call) on June 22, 2009.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters as the Under Secretary refers to the Panel for review and advice.

The purpose of the June 22, 2009, conference call is to allow Panel members to deliberate and vote on proposed revisions to the National Oceanic and Atmospheric Administration (NOAA) contracting policy for mapping and charting services. NOAA is reviewing the contracting policy to meet requirements in accordance with the Omnibus Public Lands Management Act of 2009, specifically Title XII/Subtitle B: Ocean and Coastal Mapping Integration Act. Written public comments should be submitted to Rebecca Arenson, HSRP Coordinator, by June 15, 2009.

Date and Time: The conference call will convene at 2:30 p.m. Eastern Daylight Time, June 22, 2009, and end by 3:30 p.m. Eastern Daylight Time, if not earlier.

Location and Public Participation: The meeting will be open to the public, with teleconference access available in person from the following location: NOAA Facility, 1315 East-West Hwy, SSMC3, Room 6836, Silver Spring, Maryland. Seating is on a first-come, first-served basis, and may be limited. All visitors to the NOAA facility will need to pre-register to be admitted through security. Please submit your name, time of arrival, e-mail address, and phone number to Rebecca Arenson no later than June 18, 2009, and she will provide you with instructions for admittance.

Written public comments should be submitted to Rebecca Arenson no later than June 15, 2009. Those individuals planning to provide oral comments are requested to inform Rebecca Arenson no later than June 15, 2009. The time period for oral comments may be limited.

Ms. Arenson's contact information is: Rebecca Arenson, HSRP Coordinator, Office of Coast Survey, National Ocean Service (NOS), NOAA (N/CS), 1315 East West Highway, Silver Spring, Maryland 20910; Telephone: 301-713-2780, extension 158; fax: 301-713-4019; e-mail: Rebecca.Arenson@noaa.gov.

It is recommended that interested public be present from the beginning of the meeting, as there is not a fixed time for the public comment period. The HSRP Chair will ask at large if there are any oral comments or questions from the public after the initial Panel discussion of the NOAA Ocean and Coastal Mapping Policy revisions. A final vote on recommendations for policy revisions will follow before the meeting ends.

FOR FURTHER INFORMATION CONTACT: Rebecca Arenson, Office of Coast Survey, National Ocean Service (NOS), NOAA (N/CS), 1315 East West Highway, Silver Spring, Maryland 20910; telephone: 301-713-2770; fax: 301-713-4019; e-mail: Rebecca.Arenson@noaa.gov, or visit the NOAA HRSP Web site at http://nauticalcharts.noaa.gov/ocs/hrsp/hsrp.htm.

SUPPLEMENTARY INFORMATION: The Panel will deliberate and vote on NOAA's suggested revisions to the current NOAA contracting policy on mapping and charting services. The revised contracting policy with be included in NOAA's August 2009 Report to Congress describing the NOAA Ocean and Coastal Mapping Policy. NOAA has followed the contracting policy for mapping and charting services, and subsequent revisions, since the establishment of the contracting policy in 1996. The contracting policy was last revised in August 2006.

The meeting agenda, the current contracting policy, and the proposed revised contracting policy will be available on the HRSP Web site prior to the June 22 meeting at: http://nauticalcharts.noaa.gov/ocs/hrsp/hsrp.htm.

Dated: May 26, 2009.
Steven Barnum,
NOAA, Director, Office of Coast Survey, National Ocean Service, National Oceanic and Atmospheric Administration.

[FR Doc. E9-12840 Filed 6-2-09; 8:45 am]

BILLING CODE 3510-JE-P